DEPARTMENT OF DEFENSE

Defense Acquisition Regulations System

Early Engagement Opportunity: Implementation of National Defense Authorization Act for Fiscal Year 2017

AGENCY: Department of Defense (DoD).

ACTION: Notice.

SUMMARY: DoD announces an early engagement opportunity regarding implementation of the National Defense Authorization Act for Fiscal Year 2017 within the acquisition regulations.

DATES: Early inputs should be submitted in writing to the address shown below on or before February 13, 2017.

ADDRESSES: Submit early inputs via the Defense Acquisition Regulations System (DARS) Web site at http://www.acq.osd.mil/dpap/dars/index.html.

FOR FURTHER INFORMATION CONTACT: Send inquiries via email to Ms. Jennifer Hawes at osd.dfars@mail.mil and reference “Early Engagement Opportunity: Implementation of National Defense Authorization Act for Fiscal Year 2017” in the subject line.

SUPPLEMENTARY INFORMATION: DoD is providing an opportunity for the public to provide early inputs on implementation of the National Defense Authorization Act (NDAA) for Fiscal Year (FY) 2017 within the acquisition regulations. The public is invited to submit early inputs on sections of the NDAA for FY 2017 via the DARS Web site at http://www.acq.osd.mil/dpap/dars/index.html. The Web site will be updated when early inputs will no longer be accepted. Please note, this venue does not replace or circumvent the rulemaking process; DARS will engage in formal rulemaking, in accordance with 41 U.S.C. 1303, when it has been determined that rulemaking is required to implement a section of the NDAA for FY 2017 within the acquisition regulations.

Jennifer L. Hawes,
Editor, Defense Acquisition Regulations System.

[FR Doc. 2017-00571 Filed 1-11-17; 8:45 am]

BILLING CODE 5001-06-P